DEPARTMENT OF LABOR

Employment and Training Administration

[TA-W-40,835]

Leybold Vacuum USA, Inc., Export, Pennsylvania; Notice of Termination of Investigation

Pursuant to section 221 of the Trade Act of 1974, an investigation was initiated on February 19, 2002 in response to a worker petition which was filed on behalf of workers at Leybold Vacuum USA, Inc., Export, Pennsylvania.

An active investigation covering the petitioning group of workers is already in effect (TA-W-40,609). Consequently, further investigation in this case would serve no purpose, and the investigation has been terminated.

Signed in Washington, DC this 25th day of April, 2002.
Linda G. Poole,
Certifying Officer, Division of Trade Adjustment Assistance.

[FR Doc. 02-12393 Filed 5-16-02; 8:45 am]

BILLING CODE 4510-30-M